POSTAL SERVICE

Product Change—Priority Mail Express, Priority Mail, and USPS Ground Advantage Negotiated Service Agreements; Priority Mail, and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: June 25, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
6/9/2025 | PM 875 | MC2025-1500 | K2025-1495
6/9/2025 | PM 876 | MC2025-1501 | K2025-1496
6/10/2025 | PM 877 | MC2025-1502 | K2025-1497
6/10/2025 | PM 878 | MC2025-1503 | K2025-1498
6/10/2025 | PME-PM-GA 1379 | MC2025-1504 | K2025-1499
6/11/2025 | PM 879 | MC2025-1505 | K2025-1500
6/11/2025 | PM 880 | MC2025-1506 | K2025-1501
6/11/2025 | PM 881 | MC2025-1507 | K2025-1502
6/11/2025 | PM 882 | MC2025-1508 | K2025-1503
6/11/2025 | PME-PM-GA 1380 | MC2025-1509 | K2025-1504
6/12/2025 | PM-GA 778 | MC2025-1510 | K2025-1505
6/12/2025 | PM-GA 779 | MC2025-1511 | K2025-1506
6/12/2025 | PM-GA 780 | MC2025-1512 | K2025-1507
6/12/2025 | PM-GA 781 | MC2025-1513 | K2025-1508
6/12/2025 | PME-PM-GA 1381 | MC2025-1514 | K2025-1509
6/12/2025 | PM 883 | MC2025-1515 | K2025-1510
6/12/2025 | PM-GA 782 | MC2025-1516 | K2025-1511
6/12/2025 | PM 884 | MC2025-1517 | K2025-1512
6/13/2025 | PM 885 | MC2025-1519 | K2025-1514
6/13/2025 | PM 886 | MC2025-1520 | K2025-1515
6/13/2025 | PM 887 | MC2025-1521 | K2025-1516
6/13/2025 | PM-GA 783 | MC2025-1522 | K2025-1517
6/16/2025 | PM 888 | MC2025-1523 | K2025-1518
6/16/2025 | PME-PM-GA 1382 | MC2025-1524 | K2025-1519
6/16/2025 | PM 889 | MC2025-1525 | K2025-1520
6/17/2025 | PM 890 | MC2025-1526 | K2025-1521
6/17/2025 | PM 891 | MC2025-1527 | K2025-1522
6/18/2025 | PM 892 | MC2025-1528 | K2025-1523
6/18/2025 | PM 893 | MC2025-1529 | K2025-1524
6/18/2025 | PM-GA 784 | MC2025-1530 | K2025-1525
6/20/2025 | PM-GA 785 | MC2025-1531 | K2025-1526
6/20/2025 | PM-GA 786 | MC2025-1532 | K2025-1527
6/20/2025 | PM-GA 787 | MC2025-1534 | K2025-1528

Documents are available at www.prc.gov.

Sean C. Robinson,
Attorney, Corporate and Postal Business Law.

[FR Doc. 2025-11649 Filed 6-24-25; 8:45 am]

BILLING CODE 7710-12-P